SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) of 1995 requires federal agencies to publish a notice in the Federal Register concerning each proposed collection of information before submission to OMB, and to allow 60 days for public comment in response to the notice. This notice complies with that requirement.

DATES: Submit comments on or before December 19, 2023.

ADDRESSES: Send all comments to Sylvia Ballinger, Director of Marketing, Office of Communications & Public Liaison, Small Business Administration, Washington, DC 20416.

FOR FURTHER INFORMATION CONTACT: Sylvia Ballinger, Director of Marketing, Office of Communications & Public Liaison, (202) 615-2962, sylvia.ballinger@sba.gov, or Curtis B. Rich, Agency Clearance Officer, 202-205-7030, curtis.rich@sba.gov.

SUPPLEMENTARY INFORMATION: The information collected from the public, including our program participants and stakeholders, will help ensure users have an effective, and satisfying experience with the programs and activities offered or sponsored by the Small Business Administration. The information will provide insights into the public's perceptions, experience, and expectations, and help focus attention on areas where communication, training or changes in operations might improve delivery of products or services.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control Number: 3245-0398.

(1) Title: Generic Clearance for the Collection of Qualitative Feedback on Agency Service Delivery.

Description of Respondents: Program participants and stakeholders.

Form Number: N/A.

Total Estimated Annual Responses: 500,000.

Total Estimated Annual Hour Burden: 70,000.

Curtis Rich,
Agency Clearance Officer.

[FR Doc. 2023-23138 Filed 10-19-23; 8:45 am]

BILLING CODE 8026-09-P